ENVIRONMENTAL PROTECTION AGENCY

40 CFR Parts 86 and 600

DEPARTMENT OF TRANSPORTATION

National Highway Traffic Safety Administration

49 CFR Parts 531, 533, 537, and 538

[EPA-HQ-OAR-2009-0472; FRL-8966-9; NHTSA-2009-0059]

RIN 2060-AP58; 2127-AK90

Public Hearing Locations for the Proposed Rulemaking To Establish Light-Duty Vehicle Greenhouse Gas Emission Standards and Corporate Average Fuel Economy Standards

AGENCY: Environmental Protection Agency (EPA) and National Highway Traffic Safety Administration (NHTSA).

ACTION: Notice of public hearings.

SUMMARY: EPA and NHTSA are announcing the location addresses for the joint public hearings to be held for the “Proposed Rulemaking to Establish Light-Duty Vehicle Greenhouse Gas Emission Standards and Corporate Average Fuel Economy Standards,” published in the Federal Register on September 28, 2009. This joint proposed rulemaking is consistent with the National Fuel Efficiency Policy announced by President Obama on May 19, 2009, responding to the country's critical need to address global climate change and to reduce oil consumption. As described in the joint proposed rule, EPA is proposing greenhouse gas emissions standards under the Clean Air Act, and NHTSA is proposing Corporate Average Fuel Economy standards under the Energy Policy and Conservation Act, as amended. These standards apply to passenger cars, light-duty trucks, and medium-duty passenger vehicles, covering model years 2012 through 2016, and represent a harmonized and consistent National Program. The joint proposed rule provides the dates, times, cities, instructions and other information for the public hearings and these details have not changed.

DATES: NHTSA and EPA will jointly hold three public hearings on the following dates: October 21, 2009, in Detroit, Michigan, October 23, 2009 in New York, New York, and October 27, 2009 in Los Angeles, California. The hearings will start at 9 a.m. local time and continue until everyone has had a chance to speak. If you would like to present testimony at the public hearings, we ask that you notify the EPA and NHTSA contact persons listed under FOR FURTHER INFORMATION CONTACT at least ten days before the hearing.

ADDRESSES: NHTSA and EPA will jointly hold three public hearings at the following locations: Detroit Metro Airport Marriott, 30559 Flynn Drive, Romulus, Michigan 48174 on October 21, 2009; New York LaGuardia Airport Marriott, 102-05 Ditmars Boulevard, East Elmhurst, New York 11369 on October 23, 2009; and Renaissance Los Angeles Airport Hotel, 9620 Airport Boulevard, Los Angeles, California 90045 on October 27, 2009. Please see the proposed rule for addresses and detailed instructions for submitting comments.

FOR FURTHER INFORMATION CONTACT: EPA: Tad Wysor, Office of Transportation and Air Quality, Assessment and Standards Division, Environmental Protection Agency, 2000 Traverwood Drive, Ann Arbor, MI 48105; telephone number: 734-214-4332; fax number: 734-214-4816; e-mail address: wysor.tad@epa.gov, or Assessment and Standards Division Hotline; telephone number (734) 214-4636; e-mail address asdinfo@epa.gov. NHTSA: Rebecca Yoon, Office of Chief Counsel, National Highway Traffic Safety Administration, 1200 New Jersey Avenue, SE., Washington, DC 20590. Telephone: (202) 366-2992.

SUPPLEMENTARY INFORMATION: The proposal for which NHTSA and EPA are jointly holding the public hearings was published in the Federal Register on September 28, 2009.¹ The proposed rule provides the dates, times, cities, instructions for how to participate and other information on the public hearings and these details have not changed. If you would like to present testimony at the public hearings, we ask that you notify the EPA and NHTSA contact persons listed under FOR FURTHER INFORMATION CONTACT at least ten days before the hearing. See the SUPPLEMENTARY INFORMATION section on “Public Participation” in the proposed rule for more information about the public hearings.² Also, please refer to the proposed rule for addresses and detailed instructions for submitting comments.

¹ 74 FR 49454, September 28, 2009.

² 74 FR 49455, September 28, 2009.

This notice of public hearings further provides the location addresses for the hearings, shown below:

October 21, 2009: Detroit Metro Airport Marriott, 30559 Flynn Drive, Romulus, Michigan 48174, 734-214-7555.

October 23, 2009: New York LaGuardia Airport Marriott, 102-05 Ditmars Boulevard, East Elmhurst, New York 11369, 718-565-8900.

October 27, 2009: Renaissance Los Angeles Airport Hotel, 9620 Airport Boulevard, Los Angeles, California 90045, 310-337-2800.

Dated: October 1, 2009.
Paul N. Argyropoulos,
Acting Director, Office of Transportation and Air Quality, Environmental Protection Agency.
Dated: October 1, 2009.
Stephen R. Kratzke,
Associate Administrator for Rulemaking, National Highway Traffic Safety Administration.

[FR Doc. E9-24159 Filed 10-5-09; 8:45 am]

BILLING CODE 6560-50-P